DEPARTMENT OF JUSTICE

Office of Justice Programs

[OJP (NIJ) Docket No. 1505]

Vehicular Digital Multimedia Evidence Recording System Standard Special Technical Committee

AGENCY: National Institute of Justice.

ACTION: Notice of Request for Proposals for Certification Expertise.

SUMMARY: The National Institute of Justice (NIJ) is in the process of developing a new Vehicular Digital Multimedia Evidence Recording System Standard and corresponding certification program requirements. This work is being performed by a Special Technical Committee (STC), comprised of practitioners from the field, researchers, testing experts, certification experts, and representatives from stakeholder organizations. The STC members will participate in four 2-day meetings over a 7-month time period with the goal of completing development of the standard and certification program requirements. It is anticipated that STC meetings will begin in November 2009. Travel expenses and per diem will be reimbursed for all STC meetings; however, participation time will not be funded.

NIJ is seeking certification bodies with experience in programs for similar types of electronic equipment. Additional preferred knowledge includes experience with in-car video systems or experience with law enforcement operations. There are two positions to be filled on the STC, and NIJ will accept the first 10 submissions for review.

Interested parties are requested to nominate individuals from their organizations and submit no more than two pages describing the nominee's applicable experience, preferred knowledge, and affiliations with standards development organizations. This information shall be submitted to Frances Scott at frances.scott@usdoj.gov by October 16, 2009. The submissions will be reviewed, and participants will be notified regarding their acceptance by October 30, 2009.

FOR FURTHER INFORMATION CONTACT: Casandra Robinson by telephone at 202-305-2296 [Note: this is not a toll-free telephone number], or by e-mail at Casandra.robinson@usdoj.gov.

Kristina Rose,
Acting Director, National Institute of Justice.

[FR Doc. E9-24901 Filed 10-15-09; 8:45 am]

BILLING CODE 4410-18-P